DEPARTMENT OF HOMELAND SECURITY

Environmental Planning and Historic Preservation Program

AGENCY: Office of the Chief Readiness Support Officer, Office of Management, Department of Homeland Security.

ACTION: Notice of administrative corrections to directive and instruction.

SUMMARY: The purpose of this notice is to provide information on administrative revisions to the Department of Homeland Security (DHS or Department) Categorical Exclusions found in DHS Instruction 023-01-001-01, Rev. 01, Implementation of the National Environmental Policy Act (herein after referred to as Instruction). The Instruction was finalized October 31, 2014 and became effective on March 26, 2015; however, unintended administrative errors have since been identified. These errors are limited to Categorical Exclusions found in Appendix A, Table 1 of the Instruction. The administrative revisions covered under this notice either resolve ambiguity to ensure application which is consistent with the administrative record or resolve typographical errors that had the potential to result in inappropriate application. These revisions are effective upon publication in the Federal Register.

DATES: The list of Categorical Exclusions, found in Appendix A, Table 1, of the Instruction is revised as of October 13, 2017.

ADDRESSES: Relevant documents are posted at www.dhs.gov/nepa. These documents include: This notice, the Instruction with the revised list of Categorical Exclusions, the Administrative Record supporting the establishment of the Categorical Exclusions, a summary of revisions, the U.S. Coast Guard's (USCG's) Commandant Instruction M16475.1D, and the Federal Register notice entitled National Environmental Policy Act: Coast Guard Procedures for Categorical Exclusions which appeared on July 23, 2002 (67 FR 48243).

FOR FURTHER INFORMATION CONTACT: Ms. Jennifer Hass, Environmental Planning and Historic Preservation Program Manager, DHS, SEP-EPHP@hq.dhs.gov or at 202-834-4346.

SUPPLEMENTARY INFORMATION: DHS Directive 023-01 Rev. 01 (hereinafter Directive) and the Instruction establish the Department's policy and procedures for compliance with the National Environmental Policy Act (NEPA) and the Council on Environmental Quality (CEQ) regulations for implementing the procedural provisions of NEPA (40 CFR parts 1500-1508). Together, the Directive and Instruction apply to all of the Components of DHS and help ensure the integration of environmental stewardship into DHS decision making as required by NEPA. The Instruction serves as the DHS implementing procedures for NEPA (as required by 40 CFR 1505.1 and 1507.3) and includes the Department's list of Categorical Exclusions, found in Appendix A, Table 1. Notice of the Directive and Instruction were published in the Federal Register on November 26, 2014 (79 FR 70538) and became effective on March 26, 2015.

During a recent review of the Instruction, a number of administrative errors were identified which have the potential to substantively alter the correct and intended application of several Categorical Exclusions. Based on our internal review, we have determined these errors occurred during the transcription process as Categorical Exclusions unique to the USCG and the Federal Emergency Management Agency were merged with the other DHS Component Categorical Exclusions to create a single, unified list of Categorical Exclusions for application within the Department. There was no intent to substantively alter the language or application of these Categorical Exclusions.

For the Categorical Exclusions unique to the USCG, the impacted Categorical Exclusions appear correctly in the USCG's Commandant Instruction M16475.1D which has been in effect since November 29, 2000 and the Federal Register notice entitled National Environmental Policy Act: Coast Guard Procedures for Categorical Exclusions which was published on July 23, 2002 (67 FR 48243).

In general, the administrative revisions include omission of an asterisk (*) designating the requirement to prepare a Record of Environmental consideration (REC); inclusion of an asterisk (*) designating the requirement to prepare a REC where that was not intended; administrative revision to more clearly delineate when a REC is required; clarification to resolve ambiguity to ensure application which consistent with the administrative record, and resolution of a typographical error. A copy of this Federal Register publication, DHS Instruction 023-01-001-01 Rev. 01 with the revised list of Categorical Exclusions, the Administrative Record supporting the establishment of the Categorical Exclusions, a summary of revisions, the USCG's Commandant Instruction M16475.1D, and the Federal Register notice entitled National Environmental Policy Act: Coast Guard Procedures for Categorical Exclusions which appeared on July 23, 2002 (67 FR 48243) are available on the internet at www.dhs.gov/nepa.

Dated: October 5, 2017.
Teresa R. Pohlman,
Executive Director Sustainability and Environmental Programs.

[FR Doc. 2017-22077 Filed 10-12-17; 8:45 am]

BILLING CODE 9110-9B-P